ENVIRONMENTAL PROTECTION AGENCY

[FRL-7618-3]

Science Advisory Board Staff Office; Notification of Upcoming Meetings of the Science Advisory Board Review Panel for the EPA's Report on the Environment

AGENCY: Environmental Protection Agency (EPA).

ACTION: Notice.

SUMMARY: The EPA's Science Advisory Board (SAB) Staff Office announces a public teleconference and meeting of the SAB Review Panel for the Agency's Report on the Environment (ROE).

DATES: February 18, 2004: The public teleconference will be held on February 18, 2004, from 11 a.m. to 2 p.m. (eastern time).

March 9-12, 2004: The public meeting of the Panel will be held from 9 a.m. to 5 p.m. on March 9-11, 2004, and from 9 a.m. to 12 p.m. on March 12, 2004 (eastern time).

ADDRESSES: The public meeting of the Panel will be held in the Washington, D.C. metropolitan area. The meeting location will be announced on the SAB Web site, http://www.epa/sab two weeks before the meeting.

FOR FURTHER INFORMATION CONTACT: Any member of the public wishing further information regarding the public meeting, or wishing to obtain the teleconference call-in number and access code to participate in the teleconference, may contact Dr. Thomas Armitage, Designated Federal Officer (DFO), U.S. EPA Science Advisory Board by telephone/voice mail at (202) 564-4539, fax at (202) 501-0582, or via e-mail at armitage.thomas@epa.gov. General information about the SAB can be found in the SAB Web site at http://www.epa.gov/sab.

SUPPLEMENTARY INFORMATION:

Background

Pursuant to the Federal Advisory Committee Act, Public Law 92-463, notice is hereby given that the Panel will hold a public teleconference and a public meeting to provide advice to the EPA on the Agency's Report on the Environment. Background on the Panel and the focus of the public teleconference and meeting described in this notice was provided in a Federal Register notice published on June 17, 2003 (68 FR 35883-35884).

The purpose of the public teleconference is to discuss the review charge and provide an opportunity for questions or clarifications from the Panel on the ROE prior to the March public meeting. The purpose of the March public meeting is for the Panel to review the ROE. The agendas and charge questions will be posted on the SAB Web site, http://www.epa.gov/sab/agendas.htm, prior to the teleconference and meeting. The ROE documents may be found at: http://www.epa.gov/indicators/roe/html/roePDF.htm.

Procedures for Providing Public Comments

It is the policy of the EPA SAB to accept written public comments of any length, and to accommodate oral public comments whenever possible. The SAB Staff Office expects that public statements presented at the ROE panel meetings will not be repetitive of previously submitted oral or written statements. Oral Comments: In general each individual or group requesting an oral presentation at a face-to-face meeting will be limited to a total time of 10 minutes (unless otherwise indicated). In general, for teleconference meetings, opportunities for oral comment will be limited to no more than three minutes per speaker and no more than 15 minutes total. Requests to provide oral comments must be in writing (e-mail, fax or mail) and received by the DFO no later than noon eastern time five business days prior to the teleconference in order to reserve time on the teleconference agenda. Written Comments: Although the SAB Staff Office accepts written comments until the date of the meeting (unless otherwise stated), written comments should be received in the SAB Staff Office at least seven business days prior to the teleconference date so that the comments may be made available to the committee or panel for their consideration. Comments should be supplied to the DFO at the address/contact information noted above in the following formats: one hard copy with original signature, and one electronic copy via e-mail (acceptable file format: Adobe Acrobat, WordPerfect, Word, or Rich Text files (in IBM-PC/Windows 95/98 format)). Those providing written comments and who attend the meeting are also asked to bring 35 copies of their comments for public distribution.

Meeting Accommodations

Individuals requiring special accommodation to access the public meetings listed above should contact the DFO at least five business days prior to the meeting so that appropriate arrangements can be made.

Dated: January 23, 2004.
Vanessa Vu,
Director, EPA Science Advisory Board Staff Office.

[FR Doc. 04-2270 Filed 2-3-04; 8:45 am]

BILLING CODE 6560-50-P